DEPARTMENT OF COMMERCE

Foreign-Trade Zones Board

[B-61-2023]

Foreign-Trade Zone (FTZ) 26, Notification of Proposed Production Activity; Mohawk Carpet Distribution, LLC; (Machine-Made Woven and Tufted Rugs of Polypropylene); Calhoun and Sugar Valley, Georgia

Georgia Foreign-Trade Zone, Inc., grantee of FTZ 26, submitted a notification of proposed production activity to the FTZ Board (the Board) on behalf of Mohawk Carpet Distribution, LLC (Mohawk), located in Calhoun and Sugar Valley, Georgia, within FTZ 26. The notification conforming to the requirements of the Board's regulations (15 CFR 400.22) was received on November 28, 2023.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include machine-made rugs of polypropylene (woven with pile, woven without pile, and tufted) (duty rate ranges from duty-free to 6%).

The proposed foreign-status material/component is continuous filament polypropylene (CFPP) yarn (single-ply and multi-ply (twisted or cabled)) (duty rate is 8.8% and 8%, respectively). The request indicates that the material/component is subject to duties under section 301 of the Trade Act of 1974 (section 301), depending on the country of origin. The applicable section 301 decisions require subject merchandise to be admitted to FTZs in privileged foreign status (19 CFR 146.41). As requested, FTZ authority would be subject to the following restrictions: (1) the annual volume of CFPP yarn that Mohawk may admit into the proposed subzone under NPF status be limited to 2.9 million kilograms, and (2) any approval be limited to five years.

Public comment is invited from interested parties. Submissions shall be addressed to the Board's Executive Secretary and sent to: ftz@trade.gov. The closing period for their receipt is January 16, 2024.

A copy of the notification will be available for public inspection in the “Online FTZ Information System” section of the Board's website.

For further information, contact Diane Finver at Diane.Finver@trade.gov.

Dated: November 29, 2023.
Elizabeth Whiteman,
Executive Secretary.

[FR Doc. 2023-26621 Filed 12-4-23; 8:45 am]

BILLING CODE 3510-DS-P